INTERNATIONAL TRADE COMMISSION

[Investigation No. 337-TA-1071]

Certain Wireless Audio Systems and Components Thereof; Commission Determination Not To Review an Initial Determination Granting Complainant's Motion for Leave To Amend the Complaint

AGENCY: U.S. International Trade Commission.

ACTION: Notice.

SUMMARY: Notice is hereby given that the U.S. International Trade Commission has determined not to review an initial determination (“ID”) (Order No. 9) of the presiding administrative law judge (“ALJ”), granting complainant's motion for leave to amend the complaint in the above-captioned investigation

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on September 15, 2017, based on a complaint filed by Broadcom Limited of San Jose, California; and Avago Technologies General IP (Singapore) Pte. Ltd. of Singapore (collectively, “Broadcom”). 82 FR 43404 (Sep. 15, 2017). The complaint, as supplemented, alleges violations of section 337 of the Tariff Act of 1930, as amended, 19 U.S.C. 1337, in the importation into the United States, the sale for importation, and the sale within the United States after importation of certain wireless audio systems and components thereof by reason of infringement of claim 20 of U.S. Patent No. 6,684,060. The complaint further alleges that an industry in the United States exists as required by 19 U.S.C. 1337(a)(2). The notice of investigation named DTS, Inc. of Calabasas, California; Phorus, Inc. of Calabasas, California; MartinLogan, Ltd. of Lawrence, Kansas; Paradigm Electronics Inc. of Ontario, Canada; Anthem Electronics, Inc. of Ontario, Canada; Wren Sound Systems, LLC of Phoenixville, Pennsylvania; McIntosh Laboratory, Inc. of Binghamton, New York; Definitive Technology of Owings Mills, Maryland; and Polk Audio Inc. of Vista, California, as respondents. The Office of Unfair Import Investigations is also a party in this investigation.

On September 20, 2017, Broadcom filed a motion for leave to file a second amended complaint. Broadcom sought to amend the complaint to: (1) Incorporate additional information that was set forth in a pre-institution letter to the Commission on August 29, 2017; (2) correct the names for certain respondents; and (3) add an additional domestic industry claim related to another licensee of the asserted patent. On October 2, 2017, Respondents filed a response opposing only the addition of a new domestic industry claim. The ALJ issued the subject ID granting the motion on October 24, 2017. The ALJ found that Broadcom has shown good cause to amend the complaint under Commission Rule 210.14(b)(1). See Order No. 9 at 2-3 (Oct. 24, 2017).

No petitions for review were filed. The Commission has determined not to review the ID.

The authority for the Commission's determination is contained in section 337 of the Tariff Act of 1930, as amended, 19 U.S.C. 1337, and in Part 210 of the Commission's Rules of Practice and Procedure, 19 CFR part 210.

By order of the Commission.
Issued: November 13, 2017.
Lisa R. Barton,
Secretary to the Commission.

[FR Doc. 2017-24824 Filed 11-15-17; 8:45 am]

BILLING CODE 7020-02-P